DEPARTMENT OF HEALTH AND HUMAN SERVICES

Agency for Toxic Substances and Disease Registry

[60Day-14-14ATA]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to LeRoy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Biomonitoring of Great Lakes Populations Program II—New—Agency for Toxic Substances and Disease Registry (ATSDR), Department of Health and Human Services (DHHS).

Background and Brief Description

The Great Lakes Basin has suffered decades of pollution and ecosystem damage. Many chemicals persist in Great Lakes sediments, as well as in wildlife and humans. These chemicals can build up in the aquatic food chain. Eating contaminated fish is a known route of human exposure.

In 2009, the Great Lakes Restoration Initiative (GLRI) was enacted by Public Law 111-88. The GLRI FY2010-FY2014 Action Plan makes Great Lakes restoration a national priority for 12 Federal Agencies. The GLRI is led by the U.S. Environmental Protection Agency (US EPA). Under a 2013 interagency agreement with the US EPA, the Agency for Toxic Substances and Disease Registry (ATSDR) announced a funding opportunity called the “Biomonitoring of Great Lakes Populations Program” (CDC-RFA-TS13-1302).

This applied public health program aims to measure Great Lakes chemicals in human blood and urine. These measures will be a baseline for current and future restoration activities. The measures will be compared to available national estimates. This program also aims to take these measures from people who may be at higher risk of harm from chemical exposures.

This project will provide additional public health information to supplement the CDC-RFA-TS10-1001 cooperative agreement program “Biomonitoring of Great Lakes Populations” (thereafter referred as “Program I”) initiated in FY2010 (OMB Control Number 0923-0044). The purpose of the current announcement is to evaluate body burden levels of priority contaminants in Great Lakes residents, particularly those who are at highest exposure risk, in an area and susceptible populations that were not previously addressed in the Program I.

The New York State Department of Health (NYSDOH) received funding for the current program. NYSDOH will look at two subpopulations of adults living in Syracuse, NY who are known to eat fish from Onondaga Lake. Onondaga Lake is a highly polluted Great Lakes Basin water body in Central New York located northwest of Syracuse. The target subpopulations are: (1) Burmese and Bhutanese refugees who are known to eat a substantial amount of fish from Onondaga Lake (300 people); (2) an urban population who rely on fish from Onondaga Lake as a source of food (100 people). NYSDOH study staff will work closely with local refugee and citizen support organizations to get people to take part in the study. Formative research will be conducted to determine the best method for recruiting these populations in Syracuse eating fish from Onondaga Lake.

All respondents who consent will give blood and urine specimens. Their blood will be tested for polychlorinated biphenyls (PCBs), mercury, lead, cadmium, polybrominated diphenyl ethers (PBDEs), perfluorinated compounds (PFCs), toxaphene, chlordane, oxychlordane and trans-nonachlor, dieldrin, dechlorane plus, omega-3 fatty acids, blood lipids, and pesticides. Pesticides will include mirex, hexachlorobenzene, dichlorodiphenyltrichloroethane (DDT) and dichlorodiphenyldichloroethylene (DDE). Their urine will be tested for creatinine.

Respondents will also be interviewed. They will be asked about demographic and lifestyle factors, hobbies, and types of jobs which can contribute to chemical exposure. Some diet questions will be asked, too, with a focus on eating Great Lakes fish. There is no cost to respondents other than their time spent in the study.

The ATSDR is requesting a two-year approval from OMB and is authorized to conduct this program under the Comprehensive Environmental Response, Compensation, and Liability Act of 1980 (CERCLA), as amended by the Superfund Amendments and Reauthorization Act of 1986 (SARA).

Estimated Annualized Burden Hours
Type of respondent | Form name | Number of respondents | Number of responses per respondent | Average burden per response (in hours) | Total burden hours
Refugees from Burma and Bhutan living in Syracuse, NY | Eligibility Screening Survey | 250 | 1 | 5/60 | 21
| Informed Consent | 150 | 1 | 1/60 | 3
| Interview Questionnaire | 150 | 1 | 45/60 | 113
| Network Size Questions for Respondent Driven Sampling | 150 | 1 | 5/60 | 13
Urban subsistence anglers living in Syracuse, NY | Eligibility Screening Survey | 92 | 1 | 5/60 | 8
| Informed Consent | 50 | 1 | 1/60 | 1
| Interview Questionnaire | 50 | 1 | 30/60 | 25
| Network Size Questions for Respondent Driven Sampling | 50 | 1 | 5/60 | 4
Total |  |  |  |  | 188

Leroy A. Richardson,
Chief, Information Collection Review Office, Office of Scientific Integrity, Office of the Associate Director for Science, Office of the Director, Centers for Disease Control and Prevention.

[FR Doc. 2014-20100 Filed 8-22-14; 8:45 am]

BILLING CODE 4163-70-P